DEPARTMENT OF COMMERCE

National Oceanic and Atmospheric Administration

50 Part 622

[Docket No. 060731206-6280-02; I.D. 072806A]

RIN 0648-AS67

Fisheries of the Caribbean, Gulf of Mexico, and South Atlantic; Reef Fish Fishery of the Gulf of Mexico; Amendment 26

Correction

In ÿ7E Federal Register correction to rule document 06-9342 appearring on page 78274 in the issue of Thursday, December 28, 2006, the correction should read as follows:

§622.4 [Corrected]

On page 67458, in the first column, in §622.4, in amendatory instruction 6.D., in the second line, “(p)(i)” should read “(p)(1)”.

[FR Doc. C6-9342 Filed 1-10-07; 8:45 am]

BILLING CODE 1505-01-D

SECURITIES AND EXCHANGE COMMISSION

[Release No. 34-54977; File No. SR-NYSE-2006-116]

Self-Regulatory Organizations; New York Stock Exchange LLC; Notice of Filing of Proposed Rule Change Relating to Amendment of Annual Report Timely Filing Requirements

Correction

In notice document E6-22201 beginning on page 78249 in the issue of Thursday, December 28, 2006, make the following correction:

On page 78250, in the second column footnote 17 should be footnote 5.

[FR Doc. Z6-22201 Filed 1-10-07; 8:45 am]

BILLING CODE 1505-01-D